DEPARTMENT OF HOMELAND SECURITY

Coast Guard

33 CFR Parts 100 and 165

[Docket No. USCG-2008-0384]

RIN 1625-AA00; 1625-AA08; 1625-AA87

Special Local Regulations; Safety and Security Zones; Recurring Events in Captain of the Port Long Island Sound Zone

AGENCY: Coast Guard, DHS.

ACTION: Notice of proposed rulemaking.

SUMMARY: The Coast Guard proposes to remove, add, and consolidate special local regulations and establish permanent safety zones for annual recurring marine events as well as establish a permanent security zone in the Coast Guard Sector Long Island Sound Captain of the Port (COTP) Zone. When these special local regulations or safety zones are activated and subject to enforcement, this rule would restrict vessels from portions of water areas during these annual recurring events. The revised special local regulations and safety zones would expedite public notification of events, and ensure the protection of the maritime public and event participants from the hazards associated with these annual recurring events.

DATES: Comments and related material must be received by the Coast Guard on or before July 22, 2011.

Requests for public meetings must be received by the Coast Guard on or before June 29, 2011.

ADDRESSES: You may submit comments identified by docket number USCG-2008-0384 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail Petty Officer Joseph Graun, Waterways Management Division at Coast Guard Sector Long Island Sound, telephone 203-468-4544, e-mail joseph.l.graun@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2008-0384), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Proposed Rule” and insert “USCG-2008-0384” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2008-0384” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one using one of the four methods specified under ADDRESSES. Please explain why you believe a public meeting would be beneficial. If we determine that one would aid this rulemaking, we will hold one at a time and place announced by a later notice in the Federal Register.

Basis and Purpose

The legal basis for the proposed rule is 33 U.S.C. 1231, 1233; 46 U.S.C. Chapter 701, 3306, 3703; 50 U.S.C. 191, 195; 33 CFR 1.05-1, 6.04-1, 6.04-6 and 160.5; Public Law 107-295, 116 Stat. 2064; and Department of Homeland Security Delegation No. 0170.1, which collectively authorize the Coast Guard to define regulatory safety zones, security zones and special local regulations.

This regulation carries out three related actions: (1) Establishing necessary safety zones and special local regulations, (2) establishing one necessary security zone, and (3) updating and reorganizing existing regulations for ease of use and reduction of administrative overhead.

Discussion of Proposed Rule

The Coast Guard proposes to revise sections 33 CFR 165.151 and 165.154; add section 100.100. The proposed changes will remove 37 regulated areas, establish 32 new safety zones, three special local regulations, and one security zone, and consolidate and simplify these regulations. By establishing a permanent regulation containing these events, the Coast Guard will eliminate the need to establish temporary rules for events that occur on an annual basis. This provides opportunity for the public to comment while limiting the unnecessary burden of continually establishing temporary rules every year.

(1) Establishing new safety zones and special local regulations

This rule proposes to establish 32 new safety zones under 33 CFR 165.151 and three special local regulations under 33 CFR; these events are listed below in the text of the regulation. As large numbers of spectator vessels are expected to congregate around the location of these events, the regulated areas are needed to protect both spectators and participants from the safety hazards created by the event. During the enforcement period of the regulated areas, persons and vessels would be prohibited from entering, transiting through, remaining, anchoring or mooring within the zone unless specifically authorized by the COTP or the designated representative. The Coast Guard may be assisted by other Federal, State and local agencies in the enforcement of these regulated areas.

Certain safety zones and special local regulations are listed without known dates or times. Coast Guard Sector Long Island Sound will cause notice of the enforcement of these safety zones to be made by all appropriate means to affect the widest publicity among the effected segments of the public, including publication in the Federal Register as a Notice of Enforcement, Local Notice to Mariners and Broadcast Notice to Mariners.

(2) Establishing a New Security Zone

This rule proposes to establish a security zone in the vicinity of the Coast Guard Academy in New London, CT. This security zone would encompass all navigable waters of the Thames River within a 500-yard radius of Jacobs Rock, located at approximate position 41°22.36′N, 072°05.66′W. The security zone will not encompass the navigable channel in the Thames River, so commercial traffic would be able to pass unimpeded. This security zone would be enforced during visits by government officials and at times of heighted security threats. Entry into this zone would be prohibited unless authorized by the COTP, Long Island Sound. The COTP will notify the maritime community of periods during which this security zone will be enforced via Notice of Enforcement, Local Notice to Mariners and Marine Safety Information Radio Broadcasts.

(3) Updating and Reorganizing Existing Regulations

We have identified ten regulated areas in 33 CFR 100.114 and eight regulated areas in 33 CFR 165.151 as unnecessary. One exception is event 7.1 in Table 1, American legion Post 83 Fireworks; this event still occurs annually, however it is also regulated under 33 CFR 165.151(a)(19). These regulations are redundant in that they both protect waterway users during the event. This rule proposes to remove the event from 33 CFR 100.114(7.1) because it is unnecessarily duplicative.

In addition to removing obsolete regulations, this rule proposes to reorganize and consolidate existing Sector Long Island Sound COTP Zone marine event regulations under 33 CFR 165.151 and non-marine event safety and security zones under 33 CFR 165.154. This action will eliminate the burden and confusion caused by the current configuration of numerous individual regulations spread across two CFR parts.

(4) Miscellaneous

The regulated area established under 33 CFR 165.155 (Northville Industries Offshore Platform, Riverhead, Long Island, New York-Safety Zone) is no longer in use. The Coast Guard discussed this regulation at length with the current Terminal Manager of the offshore platform. The Terminal Manger indicated the regulation was written when the platform had a different owner and since the current owner acquired the platform in 1992 no liquefied petroleum gas (LPG) transfers have been conducted and there are no future plans to conduct LPG transfers. The terminal manager has no objection to this regulation being removed. We therefore propose to remove 33 CFR 165.155.

Additionally, in updating 33 CFR 165.154, two areas currently designated as “Safety and Security Zones” in the current 33 CFR 165.154 would be re-designated simply as security zones. Changing these zones exclusively to security zones is necessary to accurately reflect their intended purpose: to protect the facility and vessels from persons or objects that could cause them harm. Dropping the word safety does not change the size, shape or effectiveness of the zone. What does change is the legal authority behind the regulation. This update is necessary to clarify the intent of and authorities used to enforce these regulations.

Regulatory Analyses

We developed this proposed rule after considering numerous statutes and executive orders related to rulemaking. Below we summarize our analyses based on 13 of these statutes or executive orders.

Regulatory Planning and Review

This proposed rule is not a significant regulatory action under section 3(f) of Executive Order 12866, Regulatory Planning and Review, as supplemented by Executive Order 13563, and does not require an assessment of potential costs and benefits under section 6(a)(3) of that Order. The Office of Management and Budget has not reviewed it under that Order.

We expect the economic impact of this proposed rule to be minimal. Although this regulation may have some impact on the public, the potential impact will be minimized for the following reasons:

The Coast Guard has previously promulgated safety zones or special local regulations, in accordance with 33 CFR Parts 100 and 165, for all event areas contained within this proposed regulation and has not received notice of any negative impact caused by any of the safety zones or special local regulations. By establishing a permanent regulation containing all of these events, the Coast Guard will eliminate the need to establish individual temporary rules for each separate event that occurs on an annual basis, thereby limiting the costs of cumulative regulations.

Vessels will only be restricted from safety zones and special local regulation areas for a short duration of time. Vessels may transit in portions of the affected waterway except for those areas covered by the proposed regulated areas. Notifications of exact dates and times of the enforcement period will be made to the local maritime community through the Local Notice to Mariners and Broadcast Notice to Mariners or through a Notice of Enforcement in the Federal Register. No new or additional restrictions would be imposed on vessel traffic.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities.

This proposed rule would affect the following entities, some of which might be small entities: the owners or operators of vessels intending to transit or anchor in the designated regulated area during the enforcement periods.

The regulated areas will not have a significant economic impact on a substantial number of small entities for the following reasons: The regulated areas will be of limited size and of short duration; vessels that can safely do so may navigate in all other portions of the waterways except for the areas designated as regulated areas; these regulated areas have been promulgated in the past with no public comments submitted. Additionally, before the effective period, the Coast Guard will issue notice of the time and location of each regulated area through a Local Notice to Mariners and Broadcast Notice to Mariners.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the rule would affect your small business, organization, or governmental jurisdiction and you have questions concerning its provisions or options for compliance, please contact Petty Officer Joseph Graun, Waterways Management Division at Coast Guard Sector Long Island Sound, telephone 203-468-4544, e-mail joseph.l.graun@uscg.mil. The Coast Guard will not retaliate against small entities that question or complain about this proposed rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this proposed rule would not result in such an expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have Tribal implications under Executive Order 13175, Consultation and Coordination with Indian Tribal Governments, because it would not have a substantial direct effect on one or more Indian Tribes, on the relationship between the Federal Government and Indian Tribes, or on the distribution of power and responsibilities between the Federal Government and Indian Tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA)(42 U.S.C. 4321-4370f), and have made a preliminary determination that this action is one of a category of actions that do not individually or cumulatively have a significant effect on the human environment.

A preliminary environmental analysis checklist supporting this determination is available in the docket where indicated under ADDRESSES. This proposed rule involves the establishment of a security zone and water activities including fireworks displays, swim events, and other marine events. This rule may be categorically excluded, under figure 2-1, paragraphs (1) and (34) (g) & (h) of the instruction. We seek any comments or information that may lead to the discovery of a significant environmental impact from this proposed rule.

List of Subjects

33 CFR Part 100

Marine safety, Navigation (water), Reporting and recording requirements, Waterways.

33 CFR Part 165

Harbors, Marine safety, Navigation (water), Reporting and recordkeeping requirements, Security measures, Waterways.

For the reasons discussed in the preamble, the Coast Guard proposes to amend 33 CFR parts 100 and 165 as follows:

PART 100—SAFETY OF LIFE ON NAVIGABLE WATERS

1. The authority citation for part 100 continues to read as follows:

Authority: 33 U.S.C. 1233.

2. Add a new § 100.100 to read as follows:

§ 100.100 Special Local Regulations; Regattas and Boat Races in the Coast Guard Sector Long Island Sound Captain of the Port Zone.

The following regulations apply to the marine events listed in the TABLE to § 100.100. These regulations will be enforced for the duration of each event, on or about the dates indicated. Annual notice of the exact dates and times of the effective period of the regulations with respect to each event, the geographical area, and details concerning the nature of the event and the number of participants and type(s) of vessels involved will be published in a Local Notices to Mariners and broadcast over VHF. First Coast Guard District Local Notice to Mariners can be found at: http://www.navcen.uscg.gov/.

Although listed in the Code of Federal Regulations, sponsors of events listed in TABLE to § 100.100 are still required to submit marine event applications in accordance with 33 CFR 100.15.

(a) Definitions. The following definitions apply to this section:

(1) Designated Representative. A “designated representative” is any Coast Guard commissioned, warrant or petty officer of the U.S. Coast Guard who has been designated by the Captain of the Port, Sector Long Island Sound (COTP), to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP.

(3) Spectators. All persons and vessels not registered with the event sponsor as participants or official patrol vessels.

(b) Vessel operators desiring to enter or operate within the regulated areas shall contact the COTP or the designated representative via VHF channel 16.

(c) Vessels may not transit the regulated areas without the COTP or designated representative approval. Vessels permitted to transit must operate at a no wake speed, in a manner which will not endanger participants or other crafts in the event.

(d) Spectators or other vessels shall not anchor, block, loiter, or impede the transit of event participants or official patrol vessels in the regulated areas during the effective dates and times, or dates and times as modified through the Local Notice to Mariners, unless authorized by COTP or designated representative.

(e) The COTP or designated representative may control the movement of all vessels in the regulated area. When hailed or signaled by an official patrol vessel, a vessel shall come to an immediate stop and comply with the lawful directions issued. Failure to comply with a lawful direction may result in expulsion from the area, citation for failure to comply, or both.

(f) The COTP or designated representative may delay or terminate any marine event in this subpart at any time it is deemed necessary to ensure the safety of life or property.

(g) For all power boat races listed, vessels not participating in this event, swimmers, and personal watercraft of any nature are prohibited from entering or moving within the regulated area unless authorized by the COTP or designated representative. Vessels within the regulated area must be at anchor within a designated spectator area or moored to a waterfront facility in a way that will not interfere with the progress of the event.

Table to § 100.100
1.1 Harvard-Yale Regatta, Thames River, New London, CT | • Event type: Boat Race.
| • Date: May or June.
| • Location: All waters of the Thames River at New London, Connecticut, from the Penn Central Draw Bridge to Bartlett Cove.
| • Additional stipulations: Spectator vessels must be at anchor within a designated spectator area or moored to a waterfront facility within the regulated area in such a way that they shall not interfere with the progress of the event at least 30 minutes prior to the start of the races. They must remain moored or at anchor until the men's varsity have passed their positions. At that time, spectator vessels located south of the Harvard Boathouse may proceed downriver at a reasonable speed. Vessels situated between the Harvard Boathouse and the finish line must remain stationary until both crews return safely to their boathouses. If for any reason the men's varsity crew race is postponed, spectator vessels will remain in position until notified by Coast Guard or regatta patrol personnel. The last 1000 feet of the race course near the finish line will be delineated by four temporary white buoys provided by the sponsor. All spectator craft shall remain behind these buoys during the event. Spectator craft shall not anchor: To the west of the race course, between Scotch Cap and Bartlett Point Light, or within the race course boundaries or in such a manner that would allow their vessel to drift or swing into the race course. During the effective period all vessels shall proceed at a speed not to exceed six knots in the regulated area. Spectator vessels shall not follow the crews during the races. Swimming is prohibited in the vicinity of the race course during the races. A vessel operating in the vicinity of the Submarine Base may not cause waves which result in damage to submarines or other vessels in the floating drydocks.
1.2 Great Connecticut River Raft Race, Middletown, CT | • Event type: Boat Race.
| • Date: Last Saturday in July or the first Saturday in August from 10 a.m. to 2 p.m.
| • Location: All waters of the Connecticut River between Dart Island (Marker no. 73) and Portland Shoals (Marker no. 92), Middletown, CT.
1.3 Head of the Connecticut Regatta, Connecticut River, CT | • Event type: Boat Race.
| • Date: The second Saturday of October or as published in the Local Notice to Mariners.
| • Location: All waters of the Connecticut River between the southern tip of Gildersleeve Island and Light Number 87.
| • Additional stipulations: Vessels less than 20 meters in length will be allowed to transit the regulated area only under escort and at the discretion of the Coast Guard patrol commander. Vessels over 20 meters in length will be allowed to transit the regulated area, under escort, from 12:30 p.m. to 1:45 p.m. or as directed by the Coast Guard patrol commander. All transiting vessels shall operate at “No Wake” speed or five knots, whichever is slower. Southbound vessels awaiting escort through the regulated area will wait in the vicinity of the southern tip of Gildersleeve Island. Northbound vessels awaiting escort will wait at Light Number 87.
1.4 Riverfront Regatta, Hartford, CT | • Event type: Regatta.
| • Date: The first Sunday of October, from 8:30 a.m. to 4:30 p.m.
| • Location: All water of the Connecticut River, Hartford, CT, between the Putnum Bridge 41°42.87′ N 072°38.43′ W and the Riverside Boat House 41°46.42′ N, 072°39.83′ W (NAD 83).
1.5 Patchogue Grand Prix, Patchogue, NY | • Event type: Boat Race.
| • Date: The last weekend of August Friday, Saturday and Sunday, 11 a.m. until 5 p.m.
| • Location: All water of the Great South Bay, off Shorefront Park, Patchogue, NY from approximate position: Beginning at a point off Sand Spit Park, Patchogue, NY at position 40°44′45″ N, 073°00′51″ W then running south to a point in Great South Bay at position 40°43′46″N, 073°00′51″ W then running south east to position 40°43′41″ N, 073°00′20″ W then running north east to position 40°43′54″ N, 072°58′46″ W then east to position 40°43′58″ N, 072°57′32″ W then east to position 40°43′57″ N, 072°56′49″ W then north to position 40°44′18″ N, 072°56′49″ W then west to position 40°44′18″ N, 072°57′32″ W then north west to position 40°44′30″ N, 072°58′32″ W then north west to position 40°44′33″ N, 072°59′12″ W then north west to position 40°44′41″ N, 072°59′51″ W then north west to position 40°44′46″ N, 073°00′04″ W and then closing the zone at position 40°44′45″ N, 073°00′51″ W (NAD 83).
1.6 Riverfront U.S. Title series Powerboat Race, Hartford, CT | • Event type: Boat Race.
| • Date: Labor Day weekend, 10 a.m. until 6 p.m. Friday and Saturday and 12:01 p.m. until 6 p.m. on Sunday.
| • Location: All water of the Connecticut River, Hartford, CT, between the Founders Bridge on the North approximate position 41° 45′53.47″ N, 072°39′55.77″ W and 41° 45′37.39″ N, 072°39′47.49″ W (NAD 83) to the South.

3. Remove the following entries in the “Fireworks Display Table” in § 100.114 (along with the associated “Connecticut” titles) as follows: 6.2, 7.1, 7.2, 7.4, 7.5, 7.10, 7.11, 7.29, 7.30, 7.31, 7.32, 7.33, 7.35, 7.36, 7.37, 7.39, 7.40, 8.1, 8.3, 8.4, 8.6, 9.3, 9.5, 9.6, 12.4.

4. Remove §§ 100.101, 100.102, 100.105, 100.106, 100.121, 100.122, 100.124.

PART 165—REGULATED NAVIGATION AREA AND LIMITED ACCESS AREAS

5. The authority citation for part 165 continues to read as follows:

Authority: 33 U.S.C. 1226, 1231; 46 U.S.C. Chapters 701, 3306, 3703; 50 U.S.C. 191, 195; 33 CFR 1.05-1, 6.04-1, 6.04-6, and 160.5; Pub. L. 107-295, 116 Stat. 2064; Department of Homeland Security Delegation No. 0170.1.

6. Remove § 165.140, 165.152, 165.155, 165.158, 165.159.

7. Revise § 165.151 to read as follows:

§ 165.151 Safety Zones; Fireworks Displays, Airshows and Swim Events in the Captain of the Port Long Island Sound Zone.

(a) Regulations.

The general regulations contained in 33 CFR 165.23 as well as the following regulations apply to the fireworks displays, air shows, and swim events listed in TABLES 1 and 2 to § 165.151.

These regulations will be enforced for the duration of each event. Notifications of exact dates and times of the enforcement period will be made to the local maritime community through the Local Notice to Mariners and Broadcast Notice to Mariners or through a Notice of Enforcement in the Federal Register. Mariners should consult the Federal Register or their Local Notice to Mariners to remain apprised of schedule or event changes. First Coast Guard District Local Notice to Mariners can be found at http://www.navcen.uscg.gov/.

Although listed in the Code of Federal Regulations, sponsors of events listed in TABLES 1 and 2 to § 165.151 are still required to submit marine event applications in accordance with 33 CFR 100.15.

(b) Definitions. The following definitions apply to this section:

(1) Designated Representative. A “designated representative” is any Coast Guard commissioned, warrant or petty officer of the U.S. Coast Guard who has been designated by the Captain of the Port, Sector Long Island Sound (COTP), to act on his or her behalf. The designated representative may be on an official patrol vessel or may be on shore and will communicate with vessels via VHF-FM radio or loudhailer. In addition, members of the Coast Guard Auxiliary may be present to inform vessel operators of this regulation.

(2) Official Patrol Vessels. Official patrol vessels may consist of any Coast Guard, Coast Guard Auxiliary, state, or local law enforcement vessels assigned or approved by the COTP.

(3) Spectators. All persons and vessels not registered with the event sponsor as participants or official patrol vessels.

(b) Vessel operators desiring to enter or operate within the regulated areas should contact the COTP or the designated representative via VHF channel 16 to obtain permission to do so.

(c) Spectators or other vessels shall not anchor, block, loiter, or impede the transit of event participants or official patrol vessels in the regulated areas during the effective dates and times, or dates and times as modified through the Local Notice to Mariners, unless authorized by COTP or designated representative.

(d) Upon being hailed by a U.S. Coast Guard vessel or the designated representative, by siren, radio, flashing light or other means, the operator of the vessel shall proceed as directed. Failure to comply with a lawful direction may result in expulsion from the area, citation for failure to comply, or both.

(e) The COTP or designated representative may delay or terminate any marine event in this subpart at any time it is deemed necessary to ensure the safety of life or property.

(f) The regulated area for all fireworks displays listed in TABLE 1 to § 165.151 is that area of navigable waters within a 1000 foot radius of the launch platform or launch site for each fireworks display, unless otherwise noted in TABLE 1 to § 165.151 or modified in USCG First District Local Notice to Mariners at: http://www.navcen.uscg.gov/.

(g) The regulated area for all air shows is the entire geographic area described as the location for that show unless otherwise noted in TABLE 1 to § 165.151 or modified in USCG First District Local Notice to Mariners at: http://www.navcen.uscg.gov/.

(h) Fireworks barges used in these locations will also have a sign on their port and starboard side labeled “FIREWORKS—STAY AWAY.” This sign will consist of 10 inch high by 1.5 inch wide red lettering on a white background. Shore sites used in these locations will display a sign labeled “FIREWORKS—STAY AWAY” with the same dimensions. These zones will be enforced from 8:30 p.m. to 10:30 p.m. each day a barge with a “FIREWORKS—STAY AWAY” sign on the port and starboard side is on-scene or a “FIREWORKS—STAY AWAY” sign is posted in a location listed in TABLE 1 to § 165.151.

(i) For all swim events listed in TABLE 2 to § 165.151, vessels not associated with the event shall maintain a separation of at least 100 yards from the participants.

Table 1—to § 165.151
5—May
5.1 Jones Beach Air Show | • Location: Waters of Atlantic Ocean off of Jones Beach State Park, Wantagh, NY. In approximate positions 40°35′06″ N, 073°32′37″ W, then running east along the shoreline of Jones Beach State Park to approximate position 40°35′49″ N, 073°28′47″ W; then running south to a position in the Atlantic Ocean off of Jones Beach at approximate position 40°35′05″ N, 073°28′34″ W; then running West to approximate position 40°34′23″ N, 073°32′23″ W; then running North to the point of origin. (NAD 83).
6—June
6.1 Barnum Festival Fireworks | • Date: last weekend in June.
| • Rain Date: following day.
| • Time: 8:30 p.m. to 10:30 p.m.
| • Location: Waters of Bridgeport Harbor, Bridgeport, CT in approximate position 41°9′04″ N, 073°12′49″ W (NAD 83).
6.2 Town of Branford Fireworks | • Location: Waters of Branford Harbor, Branford, CT in approximate position, 41°15′30″ N, 072°49′22″ W (NAD 83).
6.3 Vietnam Veterans/Town of East Haven Fireworks | • Location: Waters off Cosey Beach, East Haven, CT in approximate position, 41°14′19″ N, 072°52′9.8″ W (NAD 83).
7—July
7.1 Point O'Woods Fire Company Summer Fireworks | • Location: Waters of the Great South Bay, Point O'Woods, NY in approximate position 40°39′18.57″ N, 073°08′5.73″ W (NAD 83).
7.2 Cancer Center for Kids Fireworks | • Location: Waters off of Bayville, NY in approximate position 40°54′38.20″ N, 073°34′56.88″ W (NAD 83).
7.3 City of Westbrook, CT July Celebration Fireworks | • Location: Waters of Westbrook Harbor, Westbrook, CT in approximate position, 41°16′10.50″ N, 072°26′14″ W (NAD 83).
7.4 Norwalk Fireworks. | • Location: Waters off Calf Pasture Beach, Norwalk, CT in approximate position, 41°04′50″ N, 073°23′22″ W (NAD 83).
7.5 Lawrence Beach Club Fireworks | • Location: Waters of the Atlantic Ocean off Lawrence Beach Club, Atlantic Beach, NY in approximate position 40°34′42.65″ N, 073°42′56.02″ W (NAD 83).
7.6 Sag Harbor Fireworks | • Location: Waters of Sag Harbor Bay off Havens Beach, Sag Harbor, NY in approximate position 41°00′26″ N, 072°17′9″ W (NAD 83).
7.7 South Hampton fresh Air Home Fireworks | • Location: Waters of Shinnecock Bay, Southampton, NY in approximate positions, 40°51′48″ N, 072°26′30″ W (NAD 83).
7.8 Westport Police Athletic league Fireworks | • Location: Waters off Compo Beach, Westport, CT in approximate position, 41°06′15″ N, 073°20′57″ W (NAD 83).
7.9 City of Middletown Fireworks | • Date: July 4, 2010.
| • Rain date: July 5, 2010.
| • Time: 8:30 p.m. to 10:30 p.m.
| • Location: Waters of the Connecticut River, Middletown Harbor, Middletown, CT in approximate position 41°33′44.47″ N, 072°38′37.88″ W (NAD 83).
7.10 City of New Haven Fireworks | • Date: July 4, 2010.
| • Rain date: July 5, 2010.
| • Time: 8:30 p.m. to 10:30 p.m.
| • Location: Waters of New Haven Harbor, off Long Warf Park, New Haven, CT in approximate position 41°17′24″ N, 072°54′55.8″ W (NAD 83).
7.11 City of Norwich July Fireworks | • Date: July 4, 2010.
| • Rain date: July 5, 2010.
| • Time: 8:30 p.m. to 10:30 p.m. • Location: Waters of the Thames River, Norwich, CT in approximate position, 41°31′16.835″ N, 072°04′43.327″ W (NAD 83).
7.12 City of Stamford Fireworks | • Date: July 4, 2010.
| • Rain date: July 5, 2010.
| • Time: 8:30 p.m. to 10:30 p.m. • Location: Waters of Fisher's Westcott Cove, Stamford, CT in approximate position 41°02′09.56″ N, 073°30′57.76″ W (NAD 83).
7.13 City of West Haven Fireworks | • Date: July 4, 2010.
| • Rain date: July 5, 2010.
| • Time: 8:30 p.m. to 10:30 p.m.
| • Location: Waters of New Haven Harbor, off Bradley Point, West Haven, CT in approximate position 41°15′07″ N, 072°57′26″ W (NAD 83).
7.14 CDM Chamber of Commerce Annual Music Fest Fireworks | • Date: July 4, 2010.
| • Rain date: July 5, 2010.
| • Time: 8:30 p.m. to 10:30 p.m. • Location: Waters off of Cedar Beach Town Park, Mount Sinai, NY in approximate position 40°57′59.58″ N, 073°01′57.87″ W (NAD 83).
7.15 Davis Park Fireworks | • Date: July 4, 2010.
| • Rain date: July 5, 2010.
| • Time: 8:30 p.m. to 10:30 p.m.
| • Location: Waters of the Great South Bay, Davis Park, NY in approximate position, 40°41′17″ N, 073°00′20″ W (NAD 83).
7.16 Fairfield Aerial Fireworks | • Date: July 4, 2010.
| • Rain date: July 5, 2010.
| • Time: 8:30 p.m. to 10:30 p.m.
| • Location: Waters of Jennings Beach, Fairfield, CT in approximate position 41°08′22″ N, 073°14′02″ W (NAD 83).
7.17 Fund in the Sun Fireworks | • Date: July 4, 2010.
| • Rain date: July 5, 2010.
| • Time: 8:30 p.m. to 10:30 p.m.
| • Location: Waters of the Great South Bay off The Pines, East Fire Island, NY in approximate position 40°40′07.43″ N, 073°04′13.88″ W. (NAD 83).
7.18 Hartford Riverfest Fireworks | • Date: July 4, 2010.
| • Rain Date: July 5, 2010.
| • Time 9:00 p.m. to 10:30 p.m.
| • Location: Waters of the Connecticut River off Hartford, CT in approximate position 41°45′21″ N, 072°39′28″ W (NAD 83).
7.19 Independence Day Celebration Fireworks | • Date: July 4, 2010.
| • Rain date: July 5, 2010.
| • Time: 8:30 p.m. to 10:30 p.m.
| • Location: Waters off of Umbrella Beach, Montauk, NY in approximate position 41°01′44″ N, 071°57′13″ W (NAD 83).
7.20 Jones Beach State Park Fireworks | • Date: July 4, 2010.
| • Rain date: July 5, 2010.
| • Time: 8:30 p.m. to 10:30 p.m. • Location: Waters off of Jones Beach State Park, Wantagh, NY in approximate position 40°34′56.676″ N, 073°30′31.186″ W (NAD 83).
7.21 Madison Cultural Arts Fireworks | • Date: July 4, 2010.
| • Rain date: July 5, 2010.
| • Time: 8:30 p.m. to 10:30 p.m.
| • Location: Waters of Long Island Sound off of, Madison, CT in approximate position 41°16′10″ N, 072°36′30″ W (NAD 83).
7.22 Mason's Island Yacht Club Fireworks | • Date: July 4, 2010.
| • Rain date: July 5, 2010.
| • Time: 8:30 p.m. to 10:30 p.m.
| • Location: Waters of Fisher's Island Sound, Noank, CT in approximate position 41°19′30.61″ N, 071°57′48.22″ W (NAD 83).
7.23 Patchogue Chamber of Commerce Fireworks | • Date: July 4, 2010.
| • Rain date: July 5, 2010.
| • Time: 8:30 p.m. to 10:30 p.m.
| • Location: Waters of the Great South Bay, Patchogue, NY in approximate position, 40°44′38″ N, 073°00′33″ W (NAD 83).
7.24 Riverfest Fireworks. | • Date: July 4, 2010.
| • Rain date: July 5, 2010.
| • Time: 8:30 p.m. to 10:30 p.m.
| • Location: Waters of the Connecticut River Hartford, CT in approximate positions, 41°45′39.93″ N, 072°39′49.14″ W (NAD 83).
7.25 Village of Asharoken Fireworks | • Date: July 4, 2010.
| • Rain date: July 5, 2010.
| • Time: 8:30 p.m. to 10:30 p.m.
| • Location: Waters of Northport Bay, Asharoken, NY in approximate position, 41°55′54.04″ N, 073°21′27.97″ W (NAD 83).
7.26 Village of Port Jefferson Fourth of July Celebration Fireworks | • Date: July 4, 2010.
| • Rain date: July 5, 2010.
| • Time: 8:30 p.m. to 10:30 p.m.
| • Location: Waters of Port Jefferson Harbor Port Jefferson, NY in approximate position 40°57′10.11″ N, 073°04′28.01″ W (NAD 83).
7.27 Village of Quoque Foundering Anniversary Fireworks | • Date: July 4, 2010.
| • Rain date: July 5, 2010.
| • Time: 8:30 p.m. to 10:30 p.m.
| • Location: Waters of Quantuck Bay, Quoque, NY in approximate position 40°48′42.99″ N, 072°37′20.20″ W (NAD 83).
7.28 City of Long Beach Fireworks | • Location: Waters off Riverside Blvd, City of Long Beach, NY in approximate position 40°34′38.77″ N, 073°39′41.32″ W (NAD 83).
7.29 Great South Bay Music Festival Fireworks | • Location: Waters of Great South Bay, off Bay Avenue, Patchogue, NY in approximate position 40°44′45″ N, 073°00′25″ W (NAD 83).
7.30 Mashantucket Pequot Fireworks | • Location: Waters of the Thames River New London, CT in approximate positions Barge 1, 41°21′03.03″ N, 072°5′24.5″ W Barge 2, 41°20′51.75″ N, 072°5′18.90″ W (NAD 83).
7.31 Shelter Island Fireworks | • Location: Waters of Gardiner Bay, Shelter Island, NY in approximate position 41°04′39.11″ N, 072°22′01.07″ W (NAD 83).
7.32 Thames River Fireworks | • Location: Waters of the Thames River off the Electric Boat Company, Groton, CT in approximate position 41°20′38.75″ N, 072°05′12.22″ W (NAD 83).
7.33 Clam Shell Foundation Fireworks | • Location: Waters of Three Mile Harbor, East Hampton, NY in approximate position 41°1′15.49″ N, 072°11′27.50″ W (NAD 83).
7.34 Town of North Hempstead Bar Beach Fireworks | • Location: Waters of Hempstead Harbor, North Hempstead, NY in approximate position 40°49′54″ N, 073°39′14″ W (NAD 83).
7.35 Groton Long Point Yacht Club Fireworks | • Location: Waters of Long Island Sound, Groton, CT in approximate position 41°18′05″ N, 072°02′08″ W (NAD 83).
8—August
8.1 Pyro-FX Entertainment Group Fireworks | • Location: Waters of the Connecticut River off Chester, CT in approximate position 41°24′40.76″ N, 072°25′32.65″ W (NAD 83).
8.2 Port Washington Sons of Italy Fireworks | • Location: Waters of Hempstead Harbor off Bar Beach, North Hempstead, NY in approximate position 40°49′48.04″ N, 073°39′24.32″ W (NAD 83).
8.3 Village of Bellport Fireworks | • Location: Waters of Bellport Bay, off Bellport Dock, Bellport, NY in approximate position 40°45′01.83″ N, 072°55′50.43″ W (NAD 83).
8.4 Taste of Italy Fireworks | • Location: Waters of Norwich Harbor, off Norwich marina, Norwich, CT in approximate position 41°31′17.72″ N, 072°04′43.41″ W (NAD 83).
8.5 Old Black Point Beach Association Fireworks | • Location: Waters off Old Black Point Beach East Lyme, CT in approximate position, 41°17′34.9″ N, 072°12′55″ W (NAD 83).
8.6 Town of Babylon Fireworks | • Location: Waters off of Cedar Beach Town Park, Babylon, NY in approximate position 40°37′53″ N, 073°20′12″ W (NAD 83).
9—September
9.1 East Hampton Fire Department Fireworks | • Location: Waters off Main Beach, East Hampton, NY in approximate position 40°56′40.28″ N, 072°11′21.26″ W (NAD 83).
9.2 Town of Islip Labor Day Fireworks | • Location: Waters of Great South Bay off Bay Shore Marina, Islip, NY in approximate position 40°42′24″ N, 073°14′24″ W (NAD 83).
9.3 Village of Island Park Labor Day Celebration Fireworks | • Location: Waters off Village of Island Park Fishing Pier, Village Beach, NY in approximate position 40°36′30.95″ N, 073°39′22.23″ W (NAD 83).

Table 2 to § 165.151
1.1 Swim Across the Sound | • Location: Waters of Long Island Sound, Port Jefferson, NY to Captain's Cove Seaport, Bridgeport, CT. in approximate positions 40°58′11.71″ N, 073°05′51.12″ W, north-westerly to the finishing point at Captain's Cove Seaport 41°09′25.07″ N, 073°12′47.82″ W (NAD 83).
1.2 Huntington Bay Open Water Championships Swim | • Location: Waters of Huntington Bay, NY. In approximate positions start/finish at approximate position 40°54′25.8″ N, 073°24′28.8″ W, East turn at approximate position 40°54′45″ N, 073°23′36.6″ W and a West turn at approximate position 40°54′31.2″ N, 073°25′21″ W. °09′25.07″ N, 073°12′47.82″ W (NAD 83).
1.3 Maggie Fischer Memorial Great South Bay Cross Bay Swim | • Location: Waters of the Great South Bay, NY. Starting Point at the Fire Island Lighthouse Dock in approximate position 40°38′01″ N, 073°13′07″ W, northerly through approximate points 40°38′52″ N, 073°13′09″ W, 40°39′40″ N, 073°13′30″ W, 40°40′30″ N, 073°14′00″ W, and finishing at Gilbert Park, Brightwaters, NY at approximate position 40°42′25″ N, 073°14′52″ W (NAD 83).

8. Revise § 165.154 to read as follows:

§ 165.154 Safety and Security Zones; Captain of the Port Long Island Sound Zone Safety and Security Zones.

The following areas are designated safety and security zones:

(a) Security zones.

(1) Dominion Millstone Nuclear Power Plant, Waterford, CT.

(i) All navigable waters of Long Island Sound, from surface to bottom, North and Northeast of a line running from Bay Point, at approximate position 41°18′34.199″ N., 072°10′24.6″ W., to Millstone Point at approximate position 41°18′15″ N., 072°9′57.599″ W. (NAD 83).

(ii) All navigable waters of Long Island Sound, from surface to bottom, West of a line starting at 41°18′42″ N., 072°9′38.998″ W., running south to the Eastern most point of Fox Island at approximate position 41°18′24.112″ N., 072°9′39.729″ W. (NAD 83).

(2) Electric Boat Shipyard, Groton, CT.

(i) Location. All navigable waters of the Thames River, from surface to bottom, West of the Electric Boat Corporation Shipyard enclosed by a line beginning at a point on the shoreline at 41°20′16″ N., 72°04′47″ W.; then running West to 41°20′16″ N., 72°04′57″ W.; then running North to 41°20′26″ N., 72°04′57″ W.; then Northwest to 41°20′28.7″ N., 72°05′01.7″ W.; then North-Northwest to 41°20′53.3″ N., 72°05′04.8″ W.; then North-Northeast to 41°21′02.9″ N., 72°05′04.9″ W.; then East to a point on shore at 41°21′02.9″ N., 72°04′58.2″ W. (NAD 83).

(ii) Application. Sections 165.33(a), (e), (f) shall not apply to public vessels or to vessels owned by, under hire to, or performing work for the Electric Boat Division when operating in the security zone.

(3) Naval Submarine Base, Groton, CT. All navigable waters of the Thames River, from surface to bottom, West of the Groton Naval Submarine Base New London, enclosed by a line beginning at a point on the shoreline at 41°23′15.8″ N., 72°05′17.9″ W.; then to 41°23′15.8″ N., 72°05′22″ W.; then to 41°23′25.9″ N., 72°05′29.9″ W.; then to 41°23′33.8″ N., 72°05′34.7″ W.; then to 41°23′37.0″ N., 72°05′38.0″ W.; then to 41°23′41.0″ N., 72°05′40.3″ W.; then to 41°23′47.2″ N., 72°05′42.3″ W.; then to 41°23′53.8″ N., 72°05′43.7″ W.; then to 41°23′59.8″ N., 72°05′43.0″ W.; then to 41°24′12.4″ N., 72°05′43.2″ W.; then to a point on the shoreline at 41°24′14.4″ N., 72°05′38″ W.; then along the shoreline to the point of beginning (NAD 83).

(4) U.S. Coast Guard Academy, New London, CT.

(i) Location. All navigable waters of the Thames River, from surface to bottom, in a 500-yard radius from Jacobs Rock, approximate position 41°22.36′N., 072°05.66′W. (NAD 83).

(ii) Enforcement period. This rule will be enforced during visits by high ranking officials and times of heighted security threats.

(iii) Notification. The Captain of the Port will notify the maritime community of periods during which this security zone will be enforced via Notice of Enforcement, Local Notice to Mariners and Marine Safety Information Radio Broadcasts.

(5) U.S. Coast Guard Vessels, Long Island Sound COTP Zone. All navigable waters within a 100-yard radius of any anchored U.S. Coast Guard vessel. For the purposes of this section, U.S. Coast Guard vessels includes any commissioned vessel or small boat in the service of the regular U.S. Coast Guard and does not include Coast Guard Auxiliary vessels

(b) Safety zones.

(1) Coast Guard Station Fire Island, Long Island, NY. All navigable waters of Fire Island Inlet beginning at a point on shore at 40°37.523′ N., 073°15.685′ W.; then North to 40°37.593′ N., 073°15.719′ W.; then East to 40°37.612′ N., 073°15.664′ W.; then East to 40°37.630′ N., 073°15.610′ W.; then East to 40°37.641′ N., 073°15.558′ W.; then Southeast to 40°37.630′ N., 073°15.475′ W.; then Southeast to 40°37.625′ N., 073°15.369′ W.; then Southeast to 40°37.627′ N., 073°15.318′ W.; then Southeast to point on shore at 40°37.565′ N., 073°15.346′ W. (NAD 83).

(c) Regulations.

(1) The general regulations contained in § 165.23 and § 165.33 of this part apply. Entering into, remaining within or cause an article or thing to enter into or remain within these safety and security zones is prohibited unless authorized by the Captain of the Port or a designated representative.

(2) These safety and security zones are closed to all vessel traffic, except as may be permitted by the Captain of the Port or a designated representative. Vessel operators given permission to enter or operate in the security zones must comply with all directions given to them by the Captain of the Port or a designated representative.

(3) The “designated representative” is any Coast Guard commissioned, warrant or petty officer who has been designated by the Captain of the Port to act on his/her behalf. The on-scene representative may be on a Coast Guard vessel, a state or local law enforcement vessel, or other designated craft, or may be on shore and will communicate with vessels via VHF-FM radio or loudhailer. In addition, members of the Coast Guard Auxiliary may be present to inform vessel operators of this regulation

(4) Vessel operators desiring to enter or operate within the security zones shall request permission to do so by contacting the Captain of the Port Sector Long Island Sound at 203-468-4401, or via VHF Channel 16.

Dated: May 6, 2011.
J.M. Vojvodich,
Captain, U.S. Coast Guard, Captain of the Port Sector Long Island Sound.

[FR Doc. 2011-15589 Filed 6-21-11; 8:45 am]

BILLING CODE 9110-04-P